DEPARTMENT OF JUSTICE

Notice of Lodging of Settlement Under the Clean Air Act

Notice is hereby given that on August 7, 2006, a proposed settlement in U.S. v. New York City Transit Authority, Civil Action No. 04-00732, was lodged with the United States District Court for the Southern District of New York.

In this action the United States sought civil penalties for violations by the New York City Authority of EPA's Stratospheric Ozone Protection regulations, 40 CFR part 82 subpart F, which govern the maintenance and repair of commercial air conditioning systems to prevent the leakage of ozone-destroying chlorofluorocarbons. The complaint alleges that the Transit Authority repeatedly violated the regulations by: (1) Failing to repair air conditioning systems on subway cars; and (2) failing to maintain records regarding the servicing of air conditioning systems. By stipulation of the parties, the United States' complaint applies only to subway cars known as “Redbirds” which have been retired from service. The settlement provides for the Transit Authority to pay a civil penalty of $165,000.

The Department of Justice will receive for a period of thirty (30) days from the date of this publication comments relating to the settlement. Comments should be addressed to the Assistant Attorney General, Environment and Natural Resources Division, P.O. Box 7611, U.S. Department of Justice, Washington, DC 20044-7611, and should refer to U.S. v. New York City Transit Authority, D.J. Ref. 90-5-2-1-07681.

The settlement may be examined at the Office of the United States Attorney, 86 Chambers Street, 3rd Fl., New York, NY 10007, and at the Region II Office of the U.S. Environmental Protection Agency, Region II Records Center, 290 Broadway, 17th Floor, New York, NY 10007-1866. During the public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury or, if by e-mail or fax, forward a check in that amount to the Consent Decree Library at the stated address.

Ronald G. Gluck,
Assistant Chief, Environmental, Enforcement Section, Environment and Natural Resources Division.

[FR Doc. 06-7105 Filed 8-22-06; 8:45 am]

BILLING CODE 4410-15-M